DEPARTMENT OF AGRICULTURE

Rural Utilities Service

[Docket No.: RUS-24-AGENCY-0028]

60-Day Notice of Proposed Information Collection: Special Authority To Enable Funding of Broadband and Smart Utility Facilities Across Select Rural Development Programs (Smart Utility); OMB Control No.: 0572-0156

AGENCY: Rural Utilities Service, USDA.

ACTION: Notice; request for comments.

SUMMARY: In accordance with the Paperwork Reduction Act of 1995, this notice announces Rural Development's (RD) intention to request a revision of a currently approved information collection and invites comments on this information collection.

DATES: Comments on this notice must be received by December 9, 2024, to be assured of consideration.

ADDRESSES: Comments may be submitted through the Federal eRulemaking Portal: Go to http://www.regulations.gov and, in the “Search Field” box, labeled “Search for dockets and documents on agency actions,” enter the following docket number: (RUS-24-AGENCY-0028), and click “Search.” To submit public comments, select the “Comment” button. Before inputting your comments, you may also review the “Commenter's Checklist” (optional). Insert your comments under the “Comment” title, click “Browse” to attach files (if applicable). Input your email address and select an identity category then click “Submit Comment.” Information on using Regulations.gov, including instructions for accessing documents, submitting comments, and viewing the docket after the close of the comment period, is available through the site's “FAQ” link.

FOR FURTHER INFORMATION CONTACT: MaryPat Daskal, Chief, Branch 1, Rural Development Innovation Center—Regulations Management Division, U.S. Department of Agriculture, 1400 Independence Avenue SW, STOP 1522, South Building, Washington, DC 20250-1522. Telephone: (202) 720-7853. Email: MaryPat.Daskal@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an existing information collection that the Agency is submitting to OMB for revision.

Title: 7 CFR 1980, Special Authority to Enable Funding of Broadband and Smart Utility Facilities Across Select Rural Development Programs (Smart Utility).

OMB Control Number: 0572-0156.

Expiration Date of Approval: January 31, 2025.

Type of Request: Revision of a currently approved collection.

Estimate of Burden: Public reporting burden for this collection of information is estimated to average 1.5 hours per response.

Respondents: Businesses, not-for-profit institutions, and others.

Estimated Number of Respondents: 20.

Estimated Number of Responses per Respondent: 7.95.

Estimated Number of Responses: 159.

Estimated Total Annual Burden on Respondents: 239 hours.

Abstract: The collection of information is necessary for RD to determine an applicant's ability to borrow under the terms of the 2018 Farm Bill and included programs and that the applicant complies with statutory, regulatory, and administrative eligibility requirements for loan assistance. As part of that submission, applicants are required to provide a service area map, where applicable, of their entire service territory.

Applicants seeking funding to finance the provision of retail broadband under the special broadband authority of this part are generally expected to comply with the rules related to broadband funding under Title VI of the Rural Electrification Act. To be considered for funding under special broadband authority, applicants must provide:

(1) A description of the proposed retail broadband project;

(2) a map, where applicable, of the proposed service area to be funded under smart utility authority of the applicant;

(3) the amount and type of support requested by the applicant;

(4) any other information required of similar applicants under Title VI of the Rural Electrification Act.

Fully Searchable Data Base—The applicant information provided will be made part of a fully searchable database which could disclose to the public the information above.

Public Notice Survey—The agency will post a public notice filing on the agency's website. Incumbent service providers in the area may respond to the public notice filing by providing a public notice response.

Comments are invited on: (a) whether this collection of information is necessary for the proper performance of the functions of the Agency, including whether the information will have practical utility; (b) the accuracy of the Agency's estimate of the burden of the collection of information including the validity of the methodology and assumptions used; (c) ways to enhance the quality, utility, and clarity of the information to be collected; and (d) ways to minimize the burden of the collection of information on those who respond, including through the use of appropriate automated, electronic, mechanical or other technological collection techniques, or other forms of information technology.

Copies of this information collection can be obtained from Kimble Brown, Rural Development Innovation Center, Regulations Management Division, at Kimble.Brown@usda.gov. All responses to this notice will be summarized and included in the request for OMB approval. All comments will also become a matter of public record.

Andrew Berke,
Administrator, Rural Utilities Service.

[FR Doc. 2024-23490 Filed 10-9-24; 8:45 am]

BILLING CODE 3410-15-P